FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 24, 2009.

A. Federal Reserve Bank of Atlanta (Steve Foley, Vice President) 1000 Peachtree Street, N.E., Atlanta, Georgia 30309:

1. Benjamin W. Lindsey, and Benjamin W. Lindsey, Jr., both of Lenox, Georgia; to acquire voting shares of Robinson Bancshares, Inc., and thereby indirectly acquire voting shares of Bank of Lenox, both of Lenox, Georgia.

B. Federal Reserve Bank of Kansas City (Todd Offenbacker, Assistant Vice President) 1 Memorial Drive, Kansas City, Missouri 64198-0001:

1. The Dorothy F. Baggerly Grantor Retained Annuity Trust, Steve Baggerly as Trustee, both of Guymon, Oklahoma; to become part of the family group acting in concert to acquire voting shares of Panhandle Bancshares, Inc., and thereby indirectly acquire voting shares of Bank of the Panhandle, both in Guymon, Oklahoma.

Board of Governors of the Federal Reserve System, June 5, 2009.
Robert deV. Frierson,
Deputy Secretary of the Board.

[FR Doc. E9-13610 Filed 6-10-09; 8:45 am]

BILLING CODE 6210-01-S